FEDERAL COMMUNICATIONS COMMISSION

47 CFR Part 27

[WT Docket No. 02-353; FCC 03-251]

Service Rules for Advanced Wireless Services

AGENCY: Federal Communications Commission.

ACTION: Final rule; correction.

SUMMARY: In this document the Federal Communications Commission corrects an inadvertent error that occurred when the Commission adopted final rules for the Advanced Wireless Services in the 1710-1755 MHz and 2110-2155 MHz bands, including provisions for application, licensing, operating and technical rules, and for competitive bidding. These rules were published in the Federal Register on Friday, February 6, 2004 (69 FR 5711). Specifically, the error occurred in a table to the rules concerning interference protection at certain Federal Government operations in the 1710-1755 MHz band. As a result of this correction, the table will be amended as intended by the Commission.

DATES: Effective August 27, 2008.

FOR FURTHER INFORMATION CONTACT: John Spencer at 202-418-2487.

SUPPLEMENTARY INFORMATION: This is a correction to a summary of the Commission's Report and Order in WT Docket No. 02-353, FCC 03-251, adopted on October 16, 2003 and released on November 25, 2003. The Report and Order adopted licensing, technical, and competitive bidding rules to govern the use of the spectrum at 1710-1755 MHz and 2110-2155 MHz, which had previously been allocated for advanced wireless services, in a manner that would enable service providers to put this spectrum to use for any purpose consistent with its allocation.

Need for Correction

As published, the final rules contain an error in § 27.1134 in Table 1. The Commission inadvertently omitted the abbreviation for the word kilometers (km) after the category heading `Radius of Operation' in Table 1: Protected Department of Defense Facilities. This correction restores the information that was inadvertently omitted.

List of Subjects in 47 CFR Part 27

Communications common carriers, Radio.

Accordingly, 47 CFR part 27 is amended by making the following correcting amendments:

PART 27—MISCELLANEOUS WIRELESS COMMUNICATIONS SERVICES

1. The authority citation for part 27 continues to read as follows:

Authority: 47 U.S.C. 154, 301, 302, 303, 307, 309, 332, 336 and 337 unless otherwise noted.

2. Section 27.1134 is amended by revising Table 1 to read as follows:

§ 27.1134 Protection of Federal Government operations.

* * * * *

Table 1—Protected Department of Defense Facilities
Location | Coordinates | Radius of operation (km)
Cherry Point, NC | 34°58′ N, 076°56′ W | 100
Yuma, AZ | 32°32′ N, 113°58′ W | 120
China Lake, CA | 35°41′ N, 117°41′ W | 120
Eglin AFB, FL | 30°29′ N, 086°31′ W | 120
Pacific Missile Test Range/Point Mugu, CA | 34°07′ N, 119°30′ W | 80
Nellis AFB, NV | 36°14′ N, 115°02′ W | 160
Hill AFB, UT | 41°07′ N, 111°58′ W | 160
Patuxent River, MD | 38°17′ N, 076°25′ W | 80
White Sands Missile Range, NM | 33°00′ N, 106°30′ W | 80
Fort Irwin, CA | 35°16′ N, 116°41′ W | 50
Fort Rucker, AL | 31°13′ N, 085°49′ W | 50
Fort Bragg, NC | 35°09′ N, 079°01′ W | 50
Fort Campbell, KY | 36°41′ N, 087°28′ W | 50
Fort Lewis, WA | 47°05′ N, 122°36′ W | 50
Fort Benning, GA | 32°22′ N, 084°56′ W | 50
Fort Stewart, GA | 31°52′ N, 081°37′ W | 50

* * * * *

Federal Communications Commission.
Marlene H. Dortch,
Secretary.

[FR Doc. E8-19880 Filed 8-26-08; 8:45 am]

BILLING CODE 6712-01-P